ENVIRONMENTAL PROTECTION AGENCY

[FRL-6884-9]

Virginia State Prohibition on Discharges of Vessel Sewage; Final Affirmative Determination

AGENCY: Environmental Protection Agency (EPA).

ACTION: Notice.

SUMMARY: Notification is hereby given that the Regional Administrator, Environmental Protection Agency (EPA) Region III has affirmatively determined, pursuant to section 312(f) of Public Law 92-500, as amended by Public Law 95-217 and Public Law 100-4 (the Clean Water Act), that adequate facilities for the safe and sanitary removal and treatment of sewage from all vessels are reasonably available for the navigable waters of Smith Mountain Lake, Bedford, Franklin and Pittsylvania Counties, Virginia.

FOR FURTHER INFORMATION CONTACT: Edward Ambrogio, U.S. Environmental Protection Agency, Region III, Office of Ecological Assessment and Management, 1650 Arch Street, Philadelphia, PA 19103. Telephone: (215) 814-2758. Fax: (215) 814-2782. Email: ambrogio.edward@epa.gov.

SUPPLEMENTARY INFORMATION: This petition was made by the Office of the Secretary of Natural Resources on behalf of the Virginia Department of Environmental Quality (VADEQ). Upon receipt of this affirmative determination, Virginia will completely prohibit the discharge of sewage, whether treated or not, from any vessel in Smith Mountain Lake in accordance with section 312(f)(3) of the Clean Water Act and 40 CFR 140.4(a). Notice of the Receipt of Petition and Tentative Determination was published in the Federal Register on August 22, 2000 (65 FR 50988, Aug. 22, 2000). Comments on the tentative determination were accepted during the comment period which closed on September 21, 2000. No comments were received. The remainder of this Notice summarizes the location of the no discharge zone (NDZ), the available pumpout facilities and related information.

Smith Mountain Lake, named after the mountain located at its southeastern edge, is an inland reservoir located in the Piedmont physiographic province of west central Virginia. The lake is situated in the Roanoke River Basin and fed by two main tributaries, the Roanoke River and the Blackwater River, as well as other minor tributaries. It was formed in 1965 after the completion of the Smith Mountain Hydroelectric Dam by Appalachian Power Company and reached full pond in 1966. The lake is approximately 20,000 acres in area, forms 500 miles of shoreline, and is bordered by the three counties of Bedford, Franklin and Pittsylvania. It flows into another large reservoir, Leesville Lake. The two lakes form a pumped storage facility for hydroelectric power generation during peak demand periods. Bedford County has been using the lake as a drinking water source since March 31, 1999. The water treatment plant is now withdrawing an annual average of approximately 20,000 gallons per day. The water intake for this facility is located on the north side of the Roanoke River arm of the lake, approximately two miles east of the Hales Ford Bridge, directly across the lake from Becky's Creek. The NDZ includes Smith Mountain Lake, from Smith Mountain Dam (Gap of Smith Mountain) upstream to the 795.0 foot contour (normal pool elevation) in all tributaries, including waters to above the confluence with Back Creek in the Roanoke River arm, and to the Brooks Mill Bridge (Route 834) on the Blackwater River arm.

Information submitted by the Commonwealth of Virginia states that there are 17 waterfront facilities that operate pumpout facilities in the Smith Mountain Lake NDZ. Twelve of these 17 also provide dump stations, and there are 15 additional dump stations located at 14 other marinas for a total of 27 dump stations. There is one proposed pumpout and a mobile pumpout operated by Ferrum College. Also, funding is being sought by the Virginia Department of Health to provide a mobile “floating” pumpout facility to operate on the lake. Details of these facilities’ location, availability and hours of operation are as follows:

Virginia Dare Marina is located on State Route 853 in Bedford County. The marina currently operates one stationary pumpout facility accessible to all boaters. The pumpout facility is also a reception facility for portable toilet sanitary wastes. The marina has received approval of Clean Vessel Act funding for a pumpout facility upgrade. The marina's sewage disposal hours of operation are 10 am-4 pm, April through October.

Campers Paradise Marina is located off State Route 122, one mile north of Hales Ford Bridge that connects Bedford County and Franklin County. The marina currently operates one stationary pumpout facility accessible to all boaters. A drive by dump station on-site acts as a receptacle for sanitary waste from portable toilets. The marina's sewage disposal hours of operation are 7 am-7 pm, 11 months per year.

Lake Haven Marina is located off State Route 626 in southeast Bedford County. The marina currently operates one stationary pumpout facility located in the middle of a dock allowing equal access to all boaters. The dump station is located on land next to the septic tank and drainfield. The marina's sewage disposal hours of operation are 8 am-4 pm, April through October.

Mitchell Point Marina is located at the end of State Route 734 in southeast Bedford County. The marina currently operates a mobile pumpout unit attached to a trailer mechanism accessible to all boaters. The dump station is located next to the septic tank and drainfield. The marina's sewage disposal hours of operation are 7 am-4 pm, May through October.

Saunders Parkway Marina is located off State Route 626 in southeast Bedford County. The marina currently operates one stationary pumpout facility located on a fixed pier allowing equal access to all boaters. The dump station is located on land next to the boat repair facility. The marina's sewage disposal hours of operation are 9 am-5 pm, June through September.

Smith Mountain Lake Yacht Club is located off State Route 823 in Bedford County. The yacht club has recently completed construction of a new, state-of the-art pumpout system accessible to all boaters. The marina's sewage disposal hours of operation are 9 am-5 pm, 12 months per year.

Waterwheel Marina is located off State Route 821 in Bedford County. The marina operates a mobile unit attached to a trailer mechanism accessible to all boaters. The marina's sewage disposal hours of operation are 9 am-3 pm, 5 months per year.

Webster Marine Center is located off State Route 122 in Bedford County. The marina operates one stationary pumpout facility located on a floating pier allowing equal access to all boaters. The dump station is located next to the septic tank. The marina has received approval of Clean Vessel Act funding for a pumpout facility upgrade. The marina's sewage disposal hours of operation are 8 am-3 pm, 8 months per year.

Smith Mountain Lake State Park facility is owned by the State of Virginia and operated by the Department of Conservation and Recreation. The Department applied for and was awarded Clean Vessel Act funds for the installation of a sanitary waste pumpout unit and dump station. The facility is expected to be functional in 2001. A drive by dump station on-site currently acts as a receptacle for sanitary waste from portable toilets.

Bay Roc Marina is located off State Route 634 in Franklin County. The marina operates one stationary pumpout facility located on land near the mooring pier accessible to all boaters. The dump station is located behind the marina restroom facilities. The marina is open all year.

Boats at Smith Mountain Lake, Inc. is located off State Route 122 in Franklin County. The marina operates one stationary pumpout facility located on a mooring pier accessible to all boaters. The dump station is located between the pumpout facility and marina store. The marina's sewage disposal hours of operation are 8 am-4 pm, 7 months per year.

Bridgewater Plaza Marina is located off State Route 122 in Franklin County. The marina operates one stationary pumpout facility located on the fuel dock accessible to all boaters. The marina's sewage disposal hours of operation are 7 am-11 pm, March through November.

Crazy Horse Marina is located off State Route 616 in Franklin County. The marina operates one stationary pumpout facility located on the fuel dock accessible to all boaters. The marina's sewage disposal hours of operation are 8 am-8 pm, April through October.

Pelican Point Yacht Club located off State Route 957 in Union Hall in Franklin County. The marina operates a mobile pumpout unit attached to a trailer mechanism accessible to all boaters. A recreation vehicle dump station on-site acts as a receiving facility for sanitary waste from portable toilets. The marina's sewage disposal hours of operation are 9 am-4 pm, 10 months per year.

Shoreline Marina is located off State Route 949 in Franklin County. The marina operates a stationary pumpout unit located on the fuel dock accessible to all boaters. The dump station is located next to the marina store. This marina has utilized Clean Vessel Act funding to upgrade its sanitary waste handling capacity. The marina's sewage disposal hours of operation are 9 am-5 pm, year round.

Lakeside Marina is located off State Route 626 in Pittsylvania County. The marina operates a stationary pumpout unit located on the fuel dock accessible to all boaters. The dump station is located on land near the septic tank and drainfield. The marina's sewage disposal hours of operation are 8 am-4 pm, 6 months per year.

Lumpkin Marina is located off State Route 626 in Pittsylvania County. The marina completed construction of a new pumpout system accessible to all boaters in the 1999 season using Clean Vessel Act funding. It provides a dump station facility for portable toilets at the septic tank behind the boathouse. The marina's sewage disposal hours of operation are 8 am-7 pm, May through October.

Smith Mountain Dock & Lodge is located off State Route 626 in Pittsylvania County. The marina operates a stationary pumpout unit located on the fuel dock accessible to all boaters. The marina uses existing sanitary facilities as a dump station. These facilities are located on a fixed pier next to the boating facility. The marina's sewage disposal hours of operation are 8 am-9 pm, April through October.

The Virginia Department of Health Marina Regulations address treatment of collected vessel sewage from pumpouts and dump stations (found at 12 VAC 5-570-180 C.5 and 12 VAC 5-570-190 C, respectively). No public sewer systems are available to service the above described marina facilities. All wastes from these marinas are treated by on-site septic systems and the treatment of collected sewage is in compliance with federal, state and local regulations.

According to the State's petition, there are a total of 18,840 vessels registered in Virginia where the principal area of usage is in one of the three counties surrounding Smith Mountain Lake. This assumes that (1) when boats are used in one of the three counties they are used on Smith Mountain Lake and that, (2) the boats may be stored anywhere in Virginia but are principally used on Smith Mountain Lake, so a good number of regular transient vessels are included in the figure. Most of the recreational vessel population is limited to the season from April to October. Transient boats from other states and Virginia registered boats that are principally used elsewhere, but may at times be brought to Smith Mountain Lake, are not included in this number. An assumption can be made that the majority of such boats would be trailerable. This is supported by Health Department marina inspection slip counts which indicate only 53 out of 2,417 slips or moorings at commercial marinas are designated as transient vessel slips. Low demand for transient slips probably indicates boats are trailered and ramp launched. Most of the trailerable boats would not be of a size expected to have a holding tank. All 18,840 vessels would not occupy the lake at the same time. The information suggests that as far as simultaneous occupancy of the lake this number is high, or more likely, it is very high for the smaller, easily trailered boats, and somewhat more accurate for the larger, site-committed boats. The vessel population based on length is 4,705 vessels less than 16 feet in length, 13,309 vessels between 16 feet and 26 feet in length, 749 vessels between 26 feet and 40 feet in length, and 77 vessels greater than 40 feet in length. Based on number and size of boats, and using various methods to estimate the number of holding tanks, it is estimated that six pumpouts and seven dump stations are needed for Smith Mountain Lake. As described above, there are currently 17 operational pumpout facilities and 27 operational dump stations in Smith Mountain Lake.

The EPA hereby makes a final affirmative determination that adequate facilities for the safe and sanitary removal and treatment of sewage from all vessels are reasonably available for Smith Mountain Lake, Bedford, Franklin and Pittsylvania Counties, Virginia. This final determination will result in a Virginia State prohibition of any sewage discharges from vessels in Smith Mountain Lake.

Dated: September 29, 2000.
Bradley M. Campbell,
Regional Administrator, Region III.

[FR Doc. 00-26508 Filed 10-13-00; 8:45 am]

BILLING CODE 6560-50-U